LEGAL SERVICES CORPORATION

Financial Guide for Grantees

AGENCY: Legal Services Corporation.

ACTION: Request for comments; extension of comment period.

SUMMARY: The Legal Services Corporation (LSC) issued a notice requesting comments on the proposed changes to the revised Financial Guide in the Federal Register of December 15, 2021. LSC requested comments by January 31, 2022. This notice extends the comment period for 15 calendar days, to February 15, 2022.

DATES: Comments must be submitted by February 15, 2022.

ADDRESSES: You may submit comments by any of the following methods:

Instructions: Electronic submissions are preferred via email with attachments in Acrobat PDF format. LSC may not consider written comments sent via any other method or received after the end of the comment period.

Email: financialguide@lsc.gov. Please include “Financial Guide Comment” in the subject line of the message.

Fax, U.S. Mail, Hand Delivery, or Courier: Please call 202-295-1563 for instructions if you need to send materials by one of these methods.

FOR FURTHER INFORMATION CONTACT: Stefanie K. Davis, Senior Assistant General Counsel, (202) 295-1563, or sdavis@lsc.gov.

SUPPLEMENTARY INFORMATION: LSC is extending the public comment period stated in the Federal Register notice for this request for comments. 86 FR 71288 (Dec. 15, 2021). In that notice, LSC requested comments on proposed changes to the revised Financial Guide and established a response deadline of January 31, 2022. LSC has determined that additional time is necessary for stakeholders to have adequate opportunity to respond. LSC is therefore extending the comment period for 15 business days, from January 31, 2022 to February 15, 2022.

Dated: January 12, 2022.
Stefanie Davis,
Senior Assistant General Counsel.

[FR Doc. 2022-00796 Filed 1-14-22; 8:45 am]

BILLING CODE 7050-01-P